DEPARTMENT OF JUSTICE

Antitrust Division

Notice Pursuant to the National Cooperative Research and Production Act of 1993—Open DeviceNet Vendor Association, Inc.

Notice is hereby given that, on October 13, 2004, pursuant to section 6(a) of the National Cooperative Research and Production Act of 1993, 15 U.S.C. 4301 et seq. (“the Act”), Open DeviceNet Vendor Association, Inc. has filed written notifications simultaneously with the Attorney General and the Federal Trade Commission disclosing changes in its membership status. The notifications were filed for the purpose of extending the Act's provisions limiting the recovery of antitrust plaintiffs to actual damages under specified circumstances. Specifically, Tyco Electronics, Middletown, PA; SensArray Corporation, Austin, TX; Pfeiffer Vacuum GmbH, Asslar, GERMANY; F.A. Elec, Seoul, REPUBLIC OF KOREA; Draka USA, Franklin, MA; RivaTek Inc., Minneapolis, MN; Acromag Inc., Wixom, MI; Rockwell Automation/Reliance Electric, Greenville, SC; Applied Robotics Inc., Glenville, NY; Grid Connect Inc., Naperville, IL; Avery Weigh-Tronix, Fairmont, MN; Hanyoung Nux, Incheon, REPUBLIC OF KOREA; Leuze lumiflex GmbH + Co., Feurstenfeldbruck, GERMANY; Micro Motion, Inc., Boulder, CO; Invensys Process Systems, Foxboro, MA; Advanced Engineering, Inc., Franklin, TN; Schweitzer Engineering Laboratories, Pullman, WA; and Comtrol Corporation, Maple Grove, MN have been added as parties to this venture.

Also, Grayhill Inc., LaGrange, IL; Madison Cable Corporation, Worchester, MA; Dearborn Group, Inc., Farmington Hills, MI; Rice Lake Weighing Systems, Rice Lake, WI; Wittenstein Ternary Corporation, Nagano, JAPAN; Aera Corporation, Austin, TX; Pacific Scientific, Wilmington, MA; Baldor Electric, Fort Smith, AR; Tang & Associates, Selangor, MALAYSIA; TRS Fieldbus, Troy, MI; Denker, Auckland, NEW ZEALAND; EBARA Technologies, Inc., Sacramento, CA; E.O.A. Systems, Carrollton, TX; Com-Tec, Inc., Appleton, WI; Lantronix, Inc., Irvine, CA; Kojima Instruments, Inc., Kyoto, JAPAN; Celesco Transducer Products, Inc., Chatsworth, CA; and Northwire, Inc., Osceola, WI have been dropped as parties to this venture. The following member has changed its name: Moeller ElectroniX to Moeller GmbH, Detmold, GERMANY.

No other changes have been made in either the membership or planned activity of the group research project. Membership in this group research project remains open, and Open DeviceNet Vendor Association, Inc. intends to file additional written notification disclosing all changes in membership.

On June 21, 1995, Open DeviceNet Vendor Association, Inc. filed its original notification pursuant to section 6(a) of the Act. The Department of Justice published a notice in the Federal Register pursuant to section 6(b) of the Act on February 15, 1996 (61 FR 6039).

The last notification was filed with the Department on May 12, 2004. A notice was published in the Federal Register pursuant to section 6(b) of the Act on June 21, 2004 (69 FR 34405).

Dorothy B. Fountain,
Deputy Director of Operations, Antitrust Division.

[FR Doc. 04-26624 Filed 12-2-04; 8:45 am]

BILLING CODE 4410-11-M